DEPARTMENT OF HEALTH AND HUMAN SERVICES

Substance Abuse and Mental Health Services Administration

Center for Substance Abuse Treatment; Notice of Meeting

Pursuant to Public Law 92-463, notice is hereby given of a meeting of the Center for Substance Abuse Treatment (CSAT) National Advisory Council to be held in February 2002. A portion of the meeting is open and includes discussion of the Center's policy issues and current administrative, legislative, and program developments. The Council will hear feature presentations by SAMHSA's Administrator Charles Curie, M.A., A.C.S.W., and CSAT Director H. Westley Clark, M.D., J.D., M.P.H., CAS, FASAM. Significant issues to be discussed with the Council include Trauma and Substance Abuse; Mental Health: Culture, Race, and Ethnicity—A Supplement to Mental Health: A Report of the Surgeon General; Parity; Guidance for Applicants (GFA) Update and Evaluation Review; the Health Insurance Portability and Accountability Act and its impact on substance abuse; an information exchange on the New Freedom Initiative; status reports on HIV/AIDS; OPIOID Accreditation; Buprenorhphine; CSAT's Faith and Community Partners Initiative; Healthcare Professional Impairment; and Health Disparities.

The meeting will also include the review, discussion, and evaluation of grant applications. Therefore a portion of the meeting will be closed to the public as determined by the Administrator, SAMHSA, in accordance with Title 5 U.S.C. 552b(c), and (6) and 5 U.S.C. App. 2, section 10(d).

If special accommodations are needed for persons with disabilities, please notify the contact person listed below. Substantive program information, a summary of the meeting and roster of Council members may also be obtained from the contact person.

Committee Name: Center for Substance Abuse Treatment, National Advisory Council.

Meeting Date: February 21, 2002—9 a.m.-5:30 p.m. February 22, 2002—8:30 a.m.-1:00 p.m.

Place: Hyatt Regency Bethesda Hotel, One Bethesda Metro, Bethesda, Maryland 20814.

Type:

Open: February 21, 2002—9 a.m.-5:30 p.m.

Closed: February 22, 2002—8:30 a.m.-9:30 a.m.

Open: February 22, 2002—9:30 a.m.-1 p.m.

Contact: Cynthia Graham, 5600 Fishers Lane, RW II, Ste 619, Rockville, MD 20857, Telephone: (301) 443-8923; FAX: (301) 480-6077, E-mail: cgraham@samhsa.gov.

Dated: January 18, 2002.
Toian Vaughn,
Committee Management Officer, Substance Abuse and Mental Health Services Administration.

[FR Doc. 02-1930 Filed 1-24-02; 8:45 am]

BILLING CODE 4162-20-P